DEPARTMENT OF ENERGY

Federal Energy Regulatory Commission

[Docket No. ER01-2905-001, et al.]

Xcel Energy Services, Inc., et al.; Electric Rate and Corporate Regulation Filings

July 24, 2002.

The following filings have been made with the Commission. The filings are listed in ascending order within each docket classification.

1. Xcel Energy Services, Inc.

[Docket No. ER01-2905-001]

Take notice that on July 15, 2002, Xcel Energy Services, Inc. (Xcel) tendered for filing with the Federal Energy Regulatory Commission (Commission), a response to the letter issued by the Commission in the captioned docket on June 14, 2002.

Comment Date: August 5, 2002.

2. PECO Energy Company

[Docket No. ER02-2341-000]

Take notice that on July 18, 2002 PECO Energy Company (PECO) submitted for filing an Interconnection Agreement by and between PECO and Visteon Corporation (Visteon) for Generation Interconnection and Parallel Operation, designated as Service Agreement No. 703 under PJM Interconnection, L.L.C.'s FERC Electric Tariff, Fourth Revised Volume No. 1, to be effective on July 1, 2002. Copies of this filing were served on Visteon and PJM.

Comment Date: August 8, 2002.

3. PPL Montana, LLC

[Docket No. ER02-2342-000]

Take notice that on July 19, 2002, PPL Montana, LLC (PPL Montana) filed notices of termination of the Colstrip Unit Number 3 Wholesale Transition Service Agreement between PPL Montana and The Montana Power Company (now NorthWestern Energy, L.L.C.), designated as Rate Schedule FERC No. 1, and the Non Colstrip Unit Number 3 Wholesale Transition Service Agreement between PPL Montana and The Montana Power Company (now NorthWestern Energy, L.L.C.), designated as Rate Schedule FERC No. 2. Both rate schedules terminated by their own terms.

Notices of the termination have been served upon NorthWestern Energy, L.L.C.

Comment Date: August 9, 2002.

4. California Independent System Operator Corporation

[Docket No. ER02-2343-000]

Take notice that on July 19, 2002, the California Independent System Operator Corporation (ISO), tendered for filing a notice of termination of the Restated Interim Agreement (RIA) among the ISO, Sacramento Municipal Utility District (SMUD), and Pacific Gas and Electric Company (PG&E), for acceptance by the Federal Energy Regulatory Commission (Commission). The ISO requests that the termination of the RIA be made effective as of June 13, 2002, the date SMUD became a Control Area operator, as specified in Section 2.1(2) of the RIA.

The ISO states that this filing has been served on SMUD, PG&E, the Public Utilities Commission of the State of California, and the persons listed on the service list for Docket No. ER00-3278-000.

Comment Date: August 9, 2002.

5. Southern California Edison Company

[Docket No. ER02-2344-000]

Take notice that on July 19, 2002, Southern California Edison Company (SCE) tendered for filing revised sheets, and a letter agreement as added sheets to the Amended & Restated Eldorado System Operating Agreement (Agreement) between SCE and Nevada Power Company (NPC), Salt River Project Agricultural Improvement and Power District (SRP), and the Department of Water and Power of the City of Los Angeles (LADWP).

The purpose of the revised sheets is to correct a minor typographical error. The purpose of the letter agreement is to supplement the terms relating to Capital Improvements as set forth in Section 17 of the Agreement, under which 500 kV circuit breakers in the Eldorado Substation will be either replaced or upgraded. Further, the letter agreement provides the terms for either replacing or upgrading SCE's 500 kV series capacitors at the Eldorado Substation. Copies of this filing were served upon the Public Utilities Commission of the State of California, NPC, SRP, and LADWP.

Comment Date: August 9, 2002.

6. PJM Interconnection, L.L.C.

[Docket No. ER02-2345-000]

Take notice that on July 19, 2002, PJM Interconnection, L.L.C. (PJM), submitted amendments to Schedule 2 of the PJM Open Access Transmission Tariff to include the annual and monthly revenue requirements for Reactive Supply and Voltage Control from Generation Sources Service for Bethlehem Steel Corporation (Bethlehem) approved by the Commission in Docket No. ER02-1894.

Consistent with the effective date of the Federal Energy Regulatory Commission's approval of Bethlehem's revenue requirements in Docket No. ER02-1894, PJM requests an effective date of July 1, 2002 for the revisions.

Copies of this filing have been served on all persons on the service list in Docket No. ER02-1326-000, all PJM members, and the state electric utility commissions in the PJM region.

Comment Date: August 9, 2002.

7. Louis Dreyfus Electric Power Inc.

[Docket No. ER02-2355-000]

Take notice that on July 17, 2002, Louis Dreyfus Electric Power Inc. (LDEP), tendered for filing a notice of cancellation of its Rate Schedule FERC No. 1.

Comment Date: August 7, 2002.

Standard Paragraph

E. Any person desiring to intervene or to protest this filing should file with the Federal Energy Regulatory Commission, 888 First Street, NE., Washington, DC 20426, in accordance with rules 211 and 214 of the Commission's Rules of Practice and Procedure (18 CFR 385.211 and 385.214). Protests will be considered by the Commission in determining the appropriate action to be taken, but will not serve to make protestants parties to the proceeding. Any person wishing to become a party must file a motion to intervene. All such motions or protests should be filed on or before the comment date, and, to the extent applicable, must be served on the applicant and on any other person designated on the official service list. This filing is available for review at the Commission or may be viewed on the Commission's web site at http://www.ferc.gov using the “RIMS” link, select “Docket #” and follow the instructions (call 202-208-2222 for assistance). Protests and interventions may be filed electronically via the Internet in lieu of paper; see 18 CFR 385.2001(a)(1)(iii) and the instructions on the Commission's web site under the “e-Filing” link.

Magalie R. Salas,
Secretary.

[FR Doc. 02-19307 Filed 7-30-02; 8:45 am]

BILLING CODE 6717-01-P